DEPARTMENT OF ENERGY

Federal Energy Regulatory Commission

Sunshine Act Meetings

The following notice of meeting is published pursuant to section 3(a) of the Government in the Sunshine Act (Pub. L. 94-409), 5 U.S.C. 552b:

Agency Holding Meeting: Federal Energy Regulatory Commission.

DATE AND TIME: March 21, 2024, 10:00 a.m.

PLACE: Room 2C, 888 First Street NE, Washington, DC 20426, Open to the public.

STATUS: Open.

MATTERS TO BE CONSIDERED: Agenda.

* Note—Items listed on the agenda may be deleted without further notice.

CONTACT PERSON FOR MORE INFORMATION: Debbie-Anne A. Reese, Acting Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1111th—MEETING
[Open Meeting; March 21, 2024, 10:00 a.m.]
Item No. | Docket No. | Company
Administrative
A-1 | AD24-1-000 | Agency Administrative Matters.
A-2 | AD24-2-000 | Customer Matters, Reliability, Security and Market Operations.
A-3 | AD06-3-000 | Market Update.
Electric
E-1 | RM22-14-001 | Improvements to Generator Interconnection Procedures and Agreements.
E-2 | ER24-679-000 | Duke Energy Carolinas, LLC and Duke Energy Florida, LLC.
| ER24-683-000 | Duke Energy Carolinas, LLC, Duke Energy Florida, LLC, and Duke Energy Progress, LLC.
E-3 | ER24-330-000 | Arizona Public Service Company.
E-4 | ER24-10-000; ER24-1399-000 | Idaho Power Company.
E-5 | AD21-15-000 | Joint Federal-State Task Force on Electric Transmission.
| AD24-7-000 | Federal and State Current Issues Collaborative.
E-6 | RM22-2-000 | Compensation for Reactive Power Within the Standard Power Factor Range.
E-7 | PL24-1-000 | Project-Area Wage Standards in the Labor Cost Component of Cost-of-Service Rates.
E-8 | ER23-2656-001 | Louisville Gas and Electric Company and Kentucky Utilities Company.
| ER23-2662-001; ER21-894-003; ER21-895-002; ER21-896-002; ER21-897-001; ER21-900-001; ER21-904-001 (Consolidated) | Kentucky Utilities Company. Louisville Gas and Electric Company and Kentucky Utilities Company.
E-9 | ER23-2656-002 | Louisville Gas and Electric Company.
E-10 | ER24-36-001; ER24-38-00; ER24-39-001 | Wabash Valley Power Association, Inc.
E-11 | ER24-771-000 | Viridon New England LLC.
E-12 | ER18-1182-007; ER18-1182-000 | System Energy Resources, Inc.
| EL17-41-000 | Arkansas Public Service Commission and Mississippi Public Service Commission v. System Energy Resources, Inc.
| EL18-142-000; EL18-204-000 (consolidated) | Louisiana Public Service Commission v. System Energy Resources, Inc. and Entergy Services, Inc.
| EL18-152-000 | Louisiana Public Service Commission v. System Energy Resources, Inc. and Entergy Services, Inc.
| EL20-72-000 | Louisiana Public Service Commission, Arkansas Public Service Commission, Council of the City of New Orleans, Louisiana, and Mississippi Public Service Commission v. System Energy Resources, Inc. and Entergy Services, LLC.
| ER21-117-000; ER21-129-000; EL21-24-000; ER21-748-000; EL21-46-000; (consolidated) | System Energy Resources, Inc.
| EL21-56-000 | Louisiana Public Service Commission, Arkansas Public Service Commission, and Council of the City of New Orleans, Louisiana v. System Energy Resources, Inc., Entergy Services, LLC, and Entergy Operations, Inc.
| ER22-958-000; ER23-435-000; ER23-816-000; ER23-1022-000; ER23-1164-000 | System Energy Resources, Inc.
| EL24-5-000 | Louisiana Public Service Commission, Arkansas Public Service Commission, and Council of the City of New Orleans, Louisiana v. System Energy Resources, Inc., Entergy Services, LLC, and Entergy Operations, Inc.
E-13 | EL23-100-000; QF86-765-006 | Algonquin Power Windsor Locks, LLC.
E-14 | OMITTED
E-15 | EL24-54-000 | Karen Schedler, Jeremy Helms, Solar United Neighbors, and Vote Solar v. Salt River Project Agricultural Improvement and Power District.
Gas
G-1 | RM96-1-043 | Standards for Business Practices of Interstate Natural Gas Pipelines.
G-2 | RM22-17-000 | Petition for Rulemaking to Update Commission Regulations Regarding Allocation of Interstate Pipeline Capacity.
Hydro
H-1 | P-9690-115; P-10481-069; P-10482-122 | Eagle Creek Hydro Power, LLC, Eagle Creek Water Resources, LLC, and Eagle Creek Land Resources, LLC.
H-2 | P-12790-015 | Andrew Peklo III.
H-3 | P-5728-022; P-5728-023 | Sandy Hollow Power Company, Inc.
Certificates
C-1 | CP23-194-000 | Transcontinental Gas Pipe Line Company, LLC.
C-2 | CP23-131-000 | East Tennessee Natural Gas, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: March 14, 2024.
Debbie-Anne A. Reese,
Acting Secretary.

[FR Doc. 2024-05883 Filed 3-15-24; 4:15 pm]

BILLING CODE 6717-01-P